GENERAL SERVICES ADMINISTRATION

DEPARTMENT OF DEFENSE

Office of Communications; Cancellation of a Optional Form

AGENCY: General Services Administration DoD.

ACTION: Notice.

SUMMARY: The Department of Defense cancelled the following Optional Form because of low usage:

OF 87A, Attention—Electrostatic Sensitive Devices (Label)

DATES: Effective October 31, 2000.

FOR FURTHER INFORMATION CONTACT: Ms. Barbara Williams, General Services Administration, (202) 501-0581.

Dated: October 10, 2000.
Barbara M. Williams,
Deputy Standard and Optional Forms Management Officer.

[FR Doc. 00-27908 Filed 10-30-00; 8:45 am]

BILLING CODE 6820-34-M